DEPARTMENT OF THE INTERIOR

National Park Service

Management Plan/Special Resource Study/Record of Decision Shenandoah Valley Battlefields National Historic District, VA

AGENCIES: Shenandoah Valley Battlefields National Historic District Commission and National Park Service; Department of the Interior.

ACTION: Notice.

SUMMARY: Pursuant to section 102(2)(c) of the National Environmental Policy Act of 1969, the Shenandoah Valley Battlefields National Historic District Commission and the National Park Service have signed a Record of Decision for the Management Plan/Special Resource Study for the Shenandoah Valley Battlefields National Historic District.

The NPS and the Commission will implement the proposed action identified in the Abbreviated Final Environmental Impact Statement (Alternative B: “Clusters”). A new non-profit organization, the Shenandoah Valley Battlefields Foundation, will be created to manage the District. Battlefields and related Civil War resources will be protected through the combined efforts of the Foundation and its partners. Visitor services and interpretation will be focused at five geographic groupings—clusters—of battlefields, nearby towns, and other visitor sites. Each cluster will include a Civil War orientation center to interpret the stories of that particular cluster within the context of the larger District. The clusters and other sites in the District will be linked through brochures, interpretive displays, and a wayfinding system that emphasizes historic routes.

The Foundation will represent the varied interests of the District and serve as the “lead managing partner” for implementing the plan. As principal partners, the Commonwealth of Virginia and the NPS will serve on the Foundation board and support its operations and programs. The NPS will also provide technical assistance throughout the District.

In the Special Resource Study portion of the plan, the NPS analyzed the District and the battlefields and found that Cedar Creek Battlefield—currently a National Historic Landmark—meets the criteria for inclusion in the National Park System. The NPS will present the study and supporting information to the United States Congress for its consideration.

The proposed action is also the environmentally preferred alternative. Relative to the other alternatives, this alternative would cause the least damage to the environment and best protect, preserve, and enhance historic and cultural resources in the District.

The Commission and the NPS selected the proposed action for several reasons. It was positively received by those that attended the public meetings and responded to the newsletter and draft plan/EIS. It best fulfills the legislative mandate, has the fewest negative impacts, and generates the greatest degree of local participation. In addition, the proposed action distributes the economic benefits of tourism most evenly throughout the District, creates the greatest degree of local stewardship for battlefield preservation, and offers opportunities to tell the most complete story of all the alternatives.

For further information or to receive a complete copy of the Record of Decision, contact: Shenandoah Valley Battlefields NHD Commission, P.O. Box 897, 8895 Collins Drive, New Market, Virginia 22844, (888) 689-4545.

Dated: October 26, 2000.
Marie Rust,
Northeast Regional Director, National Park Service.

[FR Doc. 00-29554 Filed 11-17-00; 8:45 am]

BILLING CODE 4310-70-P